DEPARTMENT OF COMMERCE

National Oceanic and Atmospheric Administration

[RTID 0648-XB995]

Endangered and Threatened Species; Take of Anadromous Fish

AGENCY: National Marine Fisheries Service (NMFS), National Oceanic and Atmospheric Administration (NOAA), Commerce.

ACTION: Notice; issuance of an Endangered Species Act (ESA) section 10 permit.

SUMMARY: Notice is hereby given that NMFS is issuing an ESA section 10(a)(1)(A) permit for a trap and haul operation at Sunset Falls on the Skykomish River in Washington State. The permit addresses a program operated by the Washington Department of Fish and Wildlife (WDFW). Before issuing the permit, NMFS solicited public comments on the permit application.

FOR FURTHER INFORMATION CONTACT: Emi Melton, at phone number: (503) 736-4739, or via email: emi.melton@noaa.gov.

SUPPLEMENTARY INFORMATION:

Species Covered in This Notice

Steelhead (Oncorhynchus mykiss): Threatened, naturally produced and artificially propagated Puget Sound.

Chinook salmon (O. tshawytscha): Threatened, naturally produced and artificially propagated Puget Sound.

Discussion of the Biological Analysis Underlying Permit Issuance

NMFS has issued the ESA section 10(a)(1)(A) permit for operation of the Sunset Falls trap and haul program, which is operated by WDFW since the late 1950s to increase habitat available to various species of salmon, steelhead, and trout. The program traps and hauls ESA-listed salmon and steelhead and is consistent with the recovery plans for each species.

NMFS has analyzed the effects of the trap and haul program on salmon and steelhead listed under the ESA and has concluded that the program would not appreciably reduce the likelihood of survival and recovery of ESA-listed species. Authorization of the activities depends upon implementation of all of the monitoring, evaluation, reporting tasks or assignments, and enforcement activities included in the permit.

Summary of Comments Received

NMFS made the ESA section 10(a)(1)(A) permit application available for public review and comment on December 22, 2020 (85 FR 83519), as required by the ESA. No substantive comments were received specific to the application. However, we received several general comments in support of the program.

NMFS published a notice of availability for public review and comment on the Draft Environmental Assessment (DEA) on February 5, 2021 (86 FR 8342), in accordance with National Environmental Policy Act of 1969 (NEPA), as amended (42 U.S.C. 4321 et seq.). The DEA was available for public review and comment for 30 days, and our responses to the comments are addressed in our Final Environmental Assessment (FEA). NMFS has determined that there are no significant impacts associated with the project and issued a FONSI for the program on July 2, 2021.

Authority: 16 U.S.C. 1531-1543; 50 CFR subpart B, § 223.201-202 also issued under 16 U.S.C. 1361 et seq.; 16 U.S.C. 5503(d) for 50 CFR 223.206(d)(9).

Dated: April 29, 2022.
Angela Somma,
Chief, Endangered Species Division, Office of Protected Resources, National Marine Fisheries Service.

[FR Doc. 2022-09599 Filed 5-4-22; 8:45 am]

BILLING CODE 3510-22-P